DEPARTMENT OF ENERGY

Federal Energy Regulatory Commission

Combined Notice of Filings

Take notice that the Commission has received the following Natural Gas Pipeline Rate and Refund Report filings:

Filings Instituting Proceedings

Docket Numbers: RP14-226-000.

Applicants: Northern Natural Gas Company.

Description: 20131127 Negotiated Rate Non-Conforming to be effective 1/1/2014.

Filed Date: 11/27/13.

Accession Number: 20131127-5063.

Comments Due: 5 p.m. ET 12/9/13.

Docket Numbers: RP14-227-000.

Applicants: KPC Pipeline, LLC.

Description: Request for Waiver of Tariff Provision Requiring the Filing of an Annual Interruptible Transportation Revenue Crediting Report of KPC Pipeline, LLC.

Filed Date: 11/27/13.

Accession Number: 20131127-5072.

Comments Due: 5 p.m. ET 12/9/13.

Docket Numbers: RP14-228-000.

Applicants: Elba Express Company, L.L.C.

Description: Clean-up Filing to be effective 1/1/2014.

Filed Date: 11/27/13.

Accession Number: 20131127-5076.

Comments Due: 5 p.m. ET 12/9/13.

Docket Numbers: RP14-229-000.

Applicants: MarkWest Pioneer, L.L.C.

Description: Quarterly Fuel Adjustment Filing of MarkWest Pioneer, L.L.C.

Filed Date: 11/27/13.

Accession Number: 20131127-5080.

Comments Due: 5 p.m. ET 12/9/13.

Docket Numbers: RP14-230-000.

Applicants: Iroquois Gas Transmission System, L.P.

Description: 11/27/13 Negotiated Rates—JP Morgan Ventures (RTS) 6025-26 to be effective 12/1/2013.

Filed Date: 11/27/13.

Accession Number: 20131127-5090.

Comments Due: 5 p.m. ET 12/9/13.

Docket Numbers: RP14-231-000.

Applicants: Northern Natural Gas Company.

Description: 20131127 Negotiated Rate to be effective 12/1/2013.

Filed Date: 11/27/13.

Accession Number: 20131127-5111.

Comments Due: 5 p.m. ET 12/9/13.

Docket Numbers: RP14-232-000.

Applicants: Young Gas Storage Company, Ltd.

Description: Young Fuel Reimbursement Filing to be effective 1/1/2014.

Filed Date: 11/27/13.

Accession Number: 20131127-5115.

Comments Due: 5 p.m. ET 12/9/13.

Docket Numbers: RP14-233-000.

Applicants: El Paso Natural Gas Company, L.L.C.

Description: Non-Conforming Transportation Service Agreements Filing to be effective 1/1/2014.

Filed Date: 11/27/13.

Accession Number: 20131127-5159.

Comments Due: 5 p.m. ET 12/9/13.

Docket Numbers: RP14-234-000.

Applicants: Texas Eastern Transmission, LP.

Description: ConocoPhillips 12-01-2013 Releases to be effective 12/1/2013.

Filed Date: 11/27/13.

Accession Number: 20131127-5195.

Comments Due: 5 p.m. ET 12/9/13.

Docket Numbers: RP14-235-000.

Applicants: Tallgrass Interstate Gas Transmission, L.

Description: Neg Rate 2013-12-2 Green Plains Wood River fka/Pioneer Trail A&R NC NRA to be effective 12/1/2013.

Filed Date: 11/27/13.

Accession Number: 20131127-5196.

Comments Due: 5 p.m. ET 12/9/13.

Docket Numbers: RP14-236-000.

Applicants: Natural Gas Pipeline Company of America.

Description: Negotiated Rate Filing—Tenaska LPS—RO 143863 to be effective 12/1/2013.

Filed Date: 11/27/13.

Accession Number: 20131127-5215.

Comments Due: 5 p.m. ET 12/9/13.

Docket Numbers: RP14-237-000.

Applicants: Alliance Pipeline L.P.

Description: Dec 1 2013 Permanent Assignments to be effective 12/1/2013.

Filed Date: 11/27/13.

Accession Number: 20131127-5223.

Comments Due: 5 p.m. ET 12/9/13.

Docket Numbers: RP14-238-000.

Applicants: ETC Tiger Pipeline, LLC.

Description: Tiger Cost and Revenue Study CP09-460.

Filed Date: 11/27/13.

Accession Number: 20131127-5225.

Comments Due: 5 p.m. ET 12/9/13.

Docket Numbers: RP14-239-000.

Applicants: Fayetteville Express Pipeline LLC.

Description: FEP Cost and Revenue Study CP09-433.

Filed Date: 11/27/13.

Accession Number: 20131127-5231.

Comments Due: 5 p.m. ET 12/9/13.

Docket Numbers: RP14-240-000.

Applicants: Alliance Pipeline L.P.

Description: 2014 Negotiated Rate Filing to be effective 1/1/2014.

Filed Date: 11/29/13.

Accession Number: 20131129-5030.

Comments Due: 5 p.m. ET 12/11/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 2, 2013.
Nathaniel J. Davis, Sr.,
Deputy Secretary.

[FR Doc. 2013-29564 Filed 12-11-13; 8:45 am]

BILLING CODE 6717-01-P